DEPARTMENT OF ENERGY

Federal Energy Regulatory Commission

[Project No. 4881-031]

Ada County Idaho; Fulcrum LLC; Notice of Scoping Meetings and Environmental Site Review and Soliciting Scoping Comments

Take notice that the following hydroelectric application has been filed with Commission and is available for public inspection:

a. Type of Application: New Major License.

b. Project No.: 4881-031.

c. Date filed: November 30, 2021.

d. Applicant: Ada County Idaho, Fulcrum LLC.

e. Name of Project: Barber Dam Hydroelectric Project.

f. Location: On the Boise River, near the city of Boise, Ada County, Idaho. The project does not occupy federal land.

g. Filed Pursuant to: Federal Power Act, 16 U.S.C. 791(a)-825(r).

h. Applicant Contact: Nicholas Josten, 2742 St. Charles Ave., Idaho Falls, Idaho 83404; 208-520-5135.

i. FERC Contact: Matt Cutlip, matt.cutlip@ferc.gov, (503) 552-2762.

j. Deadline for filing scoping comments: December 31, 2022.

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. The first page of any filing should include docket number P-4881-031. For assistance, please contact FERC Online Support at FERCOnlineSupport@ferc.gov, (866) 208-3676 (toll free), or (202) 502-8659 (TTY).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The Barber Dam Project consists of the following existing facilities: (1) a 1,100-foot-long earthen embankment dam; (2) a 400-foot-long, 25-foot-high concrete capped timber crib spillway section; (3) a powerhouse containing two 1,850-kilowatt generating units; (4) a trash sluiceway; (5) a 75-acre impoundment; (6) a 100-foot-long concrete tailrace; (7) 120 feet of transmission line; and (8) appurtenant facilities. The project is operated in a run-of-river mode and generates an average of 11,900 megawatt-hours per year. The licensees propose to modify the existing spillway to incorporate a variable elevation weir, and to modify the plant operating system to control the variable weir so that water is automatically bypassed to the Boise River when the powerhouse trips offline

m. A copy of the application can be viewed on the Commission's website at http://www.ferc.gov using the “eLibrary” link. Enter the docket number excluding the last three digits in the docket number field to access the document.

You may also register online at http://www.ferc.gov/docs-filing/esubscription.asp to be notified via email of new filings and issuances related to this or other pending projects. For assistance, contact FERC Online Support.

n. Scoping Process: In accordance with the National Environmental Policy Act (NEPA), Commission staff will prepare either an Environmental Assessment or an Environmental Impact Statement for the project. The NEPA document will consider both site-specific and cumulative environmental impacts and reasonable alternatives to the proposed action.

Scoping Meetings

Commission staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the NEPA document. The times and locations of these meetings are as follows:

Public Scoping Meeting

Date: Tuesday, November 29.

Time: 7:00 p.m.

Place: Ada County Courthouse.

Address: 200 W Front St., Boise, Idaho 83702.

Agency Scoping Meeting

Date: Wednesday, November 30.

Time: 9:00 a.m.

Place: Ada County Courthouse.

Address: 200 W Front St., Boise, Idaho 83702.

Copies of the Scoping Document (SD1) outlining the subject areas to be addressed in the NEPA document were distributed to the parties on the Commission's mailing list. Copies of the SD1 will be available at the scoping meeting or may be viewed on the web at http://www.ferc.gov using the “eLibrary” link (see item m above).

Environmental Site Review

The licensees and Commission staff will conduct a project Environmental Site Review beginning at 1:00 p.m. on November 29, 2022. All interested individuals, organizations, and agencies are invited to attend. All participants should meet at the Barber Dam Project at 5201 E Sawmill Way, Boise, ID 83716. Anyone with questions about the environmental site review should contact Kevin Webb at (978) 935-6039 or kwebb@centralriverspower.com. Those individuals planning to participate in the site review should notify Mr. Webb of their intent.

Objectives

At the scoping meetings, the staff will: (1) summarize the environmental issues tentatively identified for analysis in the NEPA document; (2) solicit from the meeting participants all available information, especially quantifiable data, on the resources at issue; (3) encourage statements from experts and the public on issues that should be analyzed in the NEPA document, including viewpoints in opposition to, or in support of, Commission staff's preliminary views; (4) determine the resource issues to be addressed in the NEPA document; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist Commission staff in defining and clarifying the issues to be addressed in the NEPA document.

Dated: November 16, 2022.
Kimberly D. Bose,
Secretary.

[FR Doc. 2022-25463 Filed 11-22-22; 8:45 am]

BILLING CODE 6717-01-P